NATIONAL CREDIT UNION ADMINISTRATION

[NCUA-2025-0543]

The NCUA Staff Draft 2026-2027 Budget

AGENCY: National Credit Union Administration (NCUA).

ACTION: Notice.

SUMMARY: The NCUA's staff draft “detailed business-type budget” for 2026 and 2027 was made available for public review in the Federal Register as required by federal statute on September 29, 2025, as docket number NCUA-2025-0543. The NCUA will hold an in-person budget hearing to discuss its staff draft budget on November 6, 2025, at 1 p.m. Eastern. Further information about the hearing schedule and comment instructions are included in the SUPPLEMENTARY INFORMATION section.

DATES: Requests to deliver an in-person statement at the November 6, 2025, budget hearing must be received on or before October 30, 2025. Written statements and presentations for those scheduled to appear at the budget hearing must be received on or before 1 p.m. Eastern, November 3, 2025.

The comment period for the notice published on September 29, 2025 (90 FR 46640) is extended. Written comments must be received on or before November 7, 2025.

ADDRESSES: You may submit comments by any of the following methods (please send comments by one method only):

• In-person presentation at public budget briefing: submit requests to deliver a statement at the hearing to BudgetHearing@ncua.gov by October 30, 2025. Include your name, title, affiliation, mailing address, email address, and telephone number. The NCUA Board Secretary will inform you by October 31, 2025, if you have been approved to make a presentation. In order to present at the public meeting, you must submit a statement. Your statement must be submitted to BudgetHearing@ncua.gov by 1 p.m. Eastern, November 3, 2025. Your presentation must be delivered in person at the public budget hearing. You will be allotted five minutes during the budget hearing to deliver your remarks.

• Written comments without an in-person presentation: submit written comments by November 7, 2025, through the Federal eRulemaking Portal: https://www.regulations.gov. The docket number is NCUA-2025-0543. Follow the instructions for submitting comments.

• Copies of the NCUA Draft 2026-2027 Budget and associated materials are also available on the NCUA website at https://www.ncua.gov/About/Pages/budget-strategic-planning/supplementary-materials.aspx.

FOR FURTHER INFORMATION CONTACT: Melissa L. Lowden, Acting Chief Financial Officer, National Credit Union Administration, 1775 Duke Street, Alexandria, Virginia 22314-3428, or telephone: (703) 518-1182.

SUPPLEMENTARY INFORMATION: Section 212 of the Economic Growth, Regulatory Relief, and Consumer Protection Act amended 12 U.S.C. 1789(b)(1)(B) to require the NCUA Board (Board) to “hold a public hearing, with public notice provided of the hearing, during which the public may submit comments on the draft of the detailed business-type budget.”

The NCUA Acting Chief Financial Officer will present the staff draft budget at a budget hearing open to the public and scheduled for Thursday, November 6, 2025, at 1:00 p.m. Eastern at the NCUA headquarters building, 1775 Duke Street, Alexandria, Virginia 22314. Interested parties unable to attend in person may visit the agency's homepage (https://www.ncua.gov/) to access the provided webcast link.

If you wish to participate in the hearing and deliver a statement, you must email a request to BudgetBriefing@ncua.gov by October 30, 2025. Your request must include your name, title, affiliation, mailing address, email address, and telephone number. Statements must be delivered in person at the hearing. The NCUA will work to accommodate as many public statements as possible at the November 6, 2025, budget hearing. The Board Secretary will inform you if you have been approved to make a presentation and you will be allotted five minutes during the budget hearing to deliver your remarks. A written copy of your statement must be received by the Board Secretary via email at by 1 p.m. Eastern, November 3, 2025. In addition to delivering their remarks at the budget hearing, registered presenters will be provided the opportunity to ask questions of NCUA staff about the staff draft budget. The initial round of questions will be limited to five minutes per presenter, and one subsequent round of questions, limited to five minutes per presenter, may be permitted by the Chairman if time allows.

Written comments on the staff draft budget will also be accepted by November 7, 2025, through the Federal eRulemaking Portal: https://www.regulations.gov. The docket number is NCUA-2025-0543. Commenters should follow the portal instructions for submitting comments.

All comments should provide specific, actionable recommendations about the staff draft budget rather than general remarks. The NCUA Board will review and consider any comments from the public prior to approving the NCUA 2026-2027 budget.

By the National Credit Union Administration Board.
Melane Conyers-Ausbrooks,
Secretary of the Board.

[FR Doc. 2025-19602 Filed 10-20-25; 8:45 am]

BILLING CODE 7535-01-P